Proclamation 7836 of October 20, 2004

National Forest Products Week, 2004

By the President of the United States of America

A Proclamation

America's forests are places of beauty and incredible natural wealth. They are homes to wildlife and offer many economic opportunities for our Nation. During National Forest Products Week, we recognize the many benefits of our forests and continue our dedication to protecting them.

Across our country, many communities rely on healthy forests for economic stability. Our forests provide paper products, building materials, chemicals, and many other items needed by families and small businesses across America. Responsible forest management helps provide jobs and maintain these important resources to help meet the daily needs of Americans and people around the world.

My Administration has made forest health a high priority, and we will continue to promote active management and forest conservation. Under the Healthy Forests Initiative, we acted to remove the causes of severe wildfires by thinning forest undergrowth before disaster strikes. And the Healthy Forests Restoration Act of 2003, which I signed into law last December, expands our work, helping protect valuable lands that serve as habitat for wildlife and ensuring the safety and economic vitality of communities affected by wildfires. The Act enforces high standards of conservation to help return our forests to more natural conditions and maintain the full range of forest types.

To ensure that our forests remain a source of pride for all Americans, we must continue our tradition of protecting the land for future generations. By combining the ethic of good stewardship with the spirit of innovation, we can advance a healthy environment and continue economic growth and job creation.

In recognizing the importance of our forests, the Congress, by Public Law 86-753 (36 U.S.C. 123), as amended, has designated the week beginning on the third Sunday in October of each year as “National Forest Products Week” and has authorized and requested the President to issue a proclamation in observance of this week.

NOW, THEREFORE, I, GEORGE W. BUSH, President of the United States of America, do hereby proclaim October 17 through October 23, 2004, as National Forest Products Week. I call upon all Americans to observe this week with appropriate ceremonies and activities.

IN WITNESS WHEREOF, I have hereunto set my hand this twentieth day of October, in the year of our Lord two thousand four, and of the Independence of the United States of America the two hundred and twenty-ninth.

B

[FR Doc. 04-23992

Filed 10-22-04; 9:08 am]

Billing code 3195-01-P